DEPARTMENT OF TRANSPORTATION

Federal Motor Carrier Safety Administration

49 CFR Part 380

[Docket No. FMCSA-2007-27748]

RIN 2126-AB66

Minimum Training Requirements for Entry-Level Commercial Motor Vehicle Operators; Correction

AGENCY: Federal Motor Carrier Safety Administration (FMCSA), Department of Transportation (DOT).

ACTION: Final rule; correcting amendment.

SUMMARY: FMCSA removes obsolete regulatory text from its June 30, 2021, entry-level driver training (ELDT) final rule. The section-by-section analysis in the March 7, 2016 notice of proposed rulemaking (NPRM) concerning the ELDT requirements proposed that, upon the effective date of the final rule, the subpart setting out the old driver training standards would be removed from the regulations and the subpart reserved for future use. However, the Agency omitted the amendatory instruction needed to remove and reserve the subpart from the December 8, 2016 final rule. FMCSA corrects the omission, which was repeated in subsequent ELDT rulemaking notices, the most recent being the June 2021 final rule.

DATES: This correction is effective March 18, 2022, and is applicable beginning February 7, 2022.

FOR FURTHER INFORMATION CONTACT: Mr. Joshua Jones, Commercial Driver's License Division, FMCSA, 1200 New Jersey Avenue SE, Washington, DC 20590-0001, (202) 366-7332, Joshua.Jones@dot.gov.

SUPPLEMENTARY INFORMATION: As noted above, the Agency's December 8, 2016 (81 FR 88732), ELDT final rule omitted certain amendatory instructions. Subsequently, FMCSA published an interim final rule on February 4, 2020 (85 FR 6088) which also omitted the amendatory instruction. The interim final rule was finalized on June 30, 2021 (86 FR 34631), but without providing the necessary amendatory instruction originally discussed in the March 7, 2016 NPRM (81 FR 11944).

In this document, FMCSA provides the amendatory instruction to remove and reserve subpart E as originally explained in the preamble to the 2016 NPRM.

List of Subjects in 49 CFR Part 380

Administrative practice and procedure, Highway safety, Motor carriers, Reporting and recordkeeping requirements.

For reasons stated in the preamble, FMCSA amends 49 CFR part 380 by making the following correcting amendment:

PART 380—SPECIAL TRAINING REQUIREMENTS

1. The authority citation for part 380 continues to read as follows:

Authority: 49 U.S.C. 31133, 31136, 31305, 31307, 31308, 31502; sec. 4007(a) and (b), Pub. L. 102-240, 105 Stat. 1914, 2151-2152; sec. 32304, Pub. L. 112-141, 126 Stat. 405, 791; and 49 CFR 1.87.

Subpart E—[Removed and Reserved]

2. Subpart E, consisting of §§ 380.501 through 380.513, is removed and reserved.

Issued under authority delegated in 49 CFR 1.87.
Larry W. Minor,
Associate Administrator for Policy.

[FR Doc. 2022-05709 Filed 3-17-22; 8:45 am]

BILLING CODE 4910-EX-P